DEPARTMENT OF HEALTH AND HUMAN SERVICES

Substance Abuse and Mental Health Services Administration

Advisory Committee for Women's Services (ACWS); Notice of Meeting

Pursuant to Public Law 92-463, notice is hereby given of a meeting of the Substance Abuse and Mental Health Services Administration's (SAMHSA) Advisory Committee for Women's Services (ACWS) on March 31, 2021.

The meeting will include discussions on assessing SAMHSA's current strategies, including the mental health and substance use needs of the women and girls population. Additionally, the ACWS will be addressing priorities regarding the impact of COVID-19 on the behavioral health needs of women and children and directions around behavioral health services and access for women and children.

The meeting is open to the public and will be held virtually only. Interested persons may present data, information, or views, orally or in writing, on issues pending before the committee. Written submissions should be forwarded to the contact person by March 23, 2021. Oral presentations from the public will be scheduled at the conclusion of the meeting. Individuals interested in making oral presentations are encouraged to notify the contact person on or before March 23, 2021. Up to five minutes will be allotted for each presentation.

The meeting may be accessed via telephone or web meeting. To obtain the call-in number and access code, submit written or brief oral comments, or request special accommodations for persons with disabilities, please register on-line at https://snacregister.samhsa.gov/MeetingList.aspx, or communicate with the ACWS Designated Federal Officer, Ms. Valerie Kolick.

Substantive meeting information and a roster of ACWS members may be obtained either by accessing the SAMHSA Committees' web page at: https://www.samhsa.gov/about-us/advisory-councils/meetings, or by contacting Ms. Kolick.

Committee Name: Substance Abuse and Mental Health Services Administration Advisory Committee for Women's Services (ACWS).

Date/Time/Type: Wednesday, March 31, 2021, from: 1:00 p.m. to 4:30 p.m. EDT (OPEN).

Place: SAMHSA, 5600 Fishers Lane, Rockville, MD 20857 (Virtual).

Contact: Valerie Kolick, Designated Federal Officer, SAMHSA's Advisory Committee for Women's Services, 5600 Fishers Lane, Rockville, MD 20857, Telephone: (240) 276-1738, Email: Valerie.kolick@samhsa.hhs.gov.

Dated: March 4, 2021,
Carlos Castillo,
Captain, Committee Management Officer, Substance Abuse and Mental Health Services Administration.

[FR Doc. 2021-04935 Filed 3-9-21; 8:45 am]

BILLING CODE 4162-20-P